DEPARTMENT OF HEALTH AND HUMAN SERVICES

Centers for Disease Control and Prevention

[60Day-07-07BL]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Personal Flotation Devices (PFDs) and Commercial Fishermen: Preconceptions and Evaluation in Actual Use—New—National Institute for Occupational Safety and Health (NIOSH), Centers for Disease Control and Prevention (CDC).

Background and Brief Description

NIOSH has the responsibility under Pub. L. 91-596 section 20 (Occupational Safety and Health Act of 1970) to conduct research relating to innovative methods, techniques, and approaches for dealing with occupational safety and health problems.

Commercial fishing is one of the most dangerous occupations in the United States, with a fatality rate 30 times higher than the national average. Most fishermen who die on the job drown subsequent to a vessel sinking (51%) or fall overboard (29%). Because drowning is the leading cause of death for commercial fishermen, its prevention is one of the highest priorities for those who work to make the industry safer.

The risk of drowning for commercial fisherman is high, yet most fishermen do not wear Personal Flotation Devices (PFDs) while on deck. From 1990 to 2005, 71 commercial fishermen drowned subsequent to a fall overboard in Alaska. None of the victims were wearing a PFD, and many were within minutes of being rescued when they lost their strength and disappeared under the surface of the water.

Although there are many new styles of PFDs on the market, it is unknown how many commercial fishermen are aware of them, or if they are more comfortable and wearable than the older styles. There have not been any published studies testing PFDs on commercial fisherman to measure product attributes and satisfaction.

The purpose of this study is to first, identify fishermen's perceptions of risk, safety attitudes, and beliefs about PFDs; and second, to evaluate a variety of modern PFDs with commercial fishermen to discover the features and qualities that they like and dislike. This study addresses the repeated recommendation by NIOSH that all commercial fishermen wear PFDs while on deck.

Study Design

NIOSH is requesting OMB approval to administer a survey to fishermen operating in several fisheries in Southwest Alaska. This questionnaire will contain questions that measure fishermen's risk perceptions, safety attitudes, and beliefs about PFDs. The questionnaire is short and will take about 20 minutes to complete. The sample size was determined to be 370 respondents in order to achieve a 95% confidence level.

Additionally, NIOSH is requesting approval to involve fishermen directly with an evaluation of the wearability of several different styles of PFDs during fishing operations. Fishermen will be asked to wear one of several styles of PFDs during their fishing season and rate the comfort and features that the PFD has. The PFD ratings will be collected at three times during the evaluation period, using a short form. Each of the three evaluation forms will take about 10 minutes to complete. The sample size for this portion of the study is 145 respondents but will still have a 95% confidence level. The purpose of this portion is to inform potential purchasers of PFD's of other fishermen's evaluations of different styles based on their experience with their use.

This study has the potential to greatly benefit the fishing industry. One of the first steps to increasing PFD use among commercial fishermen is gaining an understanding of fishermen's reasons for not wearing PFDs. With the empirical data at hand, safety professionals may be better equipped to address fishermen's concerns and remove the barriers that are currently in place.

Findings from the PFD evaluations will provide manufacturers valuable information about commercial fishermen's needs and expectations of PFDs. Because the PFD wearability ratings will be completed by fishermen during fishing operations, the results may have more credibility when they are disseminated to the industry. The PFD evaluation will also supply information to fishermen about which types of PFDs worked best for different types of fishing operations. There are no costs to respondents other than their time.

Estimated Annualized Burden Hours
Type of Respondent | Number of respondents | Number of responses per respondent | Average burden per response (in hours) | Total burden hours
Fishermen (Survey) | 370 | 1 | 20/60 | 123
Fishermen (Evaluation) | 145 | 3 | 10/60 | 73 | Total |  |  |  | 196

Dated: August 10, 2007.
Maryam I. Daneshvar,
Acting Reports Clearance Officer, Centers for Disease Control and Prevention.

[FR Doc. E7-16113 Filed 8-15-07; 8:45 am]

BILLING CODE 4163-18-P